DEPARTMENT OF COMMERCE

National Oceanic and Atmospheric Administration

[RTID 0648-XC813]

North Pacific Fishery Management Council; Public Meeting

AGENCY: National Marine Fisheries Service (NMFS), National Oceanic and Atmospheric Administration (NOAA), Commerce.

ACTION: Notice of hybrid meeting.

SUMMARY: The North Pacific Fishery Management Council (Council) Salmon Bycatch Committee will meet March 20, 2023 through March 21, 2023.

DATES: The meeting will be held on Monday, March 20, 2023 though Tuesday, March 21, 2023, from 9 a.m. to 5 p.m., Alaska Time.

ADDRESSES: The meeting will be a hybrid meeting. Attend in-person at the UAA campus, Gorsuch Commons Room 107, 3700 Sharon Gagnon Lane, Anchorage, AK 99508 or join online through the link at https://meetings.npfmc.org/Meeting/Details/2980.

Council address: North Pacific Fishery Management Council, 1007 W 3rd Ave., Anchorage, AK 99501-2252; telephone: (907) 271-2809. Instructions for attending the meeting are given under SUPPLEMENTARY INFORMATION, below.

FOR FURTHER INFORMATION CONTACT: Dr. Diana Stram, Council staff; phone: (907) 271-2809; email: diana.stram@noaa.gov. For technical support, please contact our administrative staff; email: npfmc.admin@noaa.gov.

SUPPLEMENTARY INFORMATION:

Agenda

Monday, March 20, 2023, Through Tuesday, March 21, 2023

The agenda will include: (a) introductions; (b) information requested of staff; (c) review of purpose and need statements submitted; (d) review of conceptual alternatives submitted; (e) committee recommendations to the Council; and (f) and other business. The agenda is subject to change, and the latest version will be posted at https://meetings.npfmc.org/Meeting/Details/2980 prior to the meeting, along with meeting materials.

Connection Information

You can attend the meeting online using a computer, tablet, or smart phone; or by phone only. Connection information will be posted online at: https://meetings.npfmc.org/Meeting/Details/2980.

Public Comment

Public comment letters will be accepted and should be submitted electronically to https://meetings.npfmc.org/Meeting/Details/2980.

Authority: 16 U.S.C. 1801 et seq.

Dated: March 1, 2023.
Rey Israel Marquez,
Acting Deputy Director, Office of Sustainable Fisheries, National Marine Fisheries Service.

[FR Doc. 2023-04517 Filed 3-3-23; 8:45 am]

BILLING CODE 3510-22-P